DEPARTMENT OF TRANSPORTATION

Coast Guard

33 CFR Part 117

[CGD01-00-002]

Drawbridge Operation Regulations: Newtown Creek, Dutch Kills, English Kills and Their Tributaries, NY

AGENCY: Coast Guard, DOT.

ACTION: Notice of temporary deviation from regulations.

SUMMARY: The Commander, First Coast Guard District, has issued a temporary deviation from the drawbridge operation regulations for the Greenpoint Avenue Bridge, mile 1.3, across the Newtown Creek in New York City. This deviation allows the bridge owner to keep the bridge in the closed position from 6 a.m. to 6:30 p.m., on January 23, 2000, and January 30, 2000. This action is necessary to facilitate necessary repairs to the bridge lift motors.

DATES: This deviation is effective on January 23, 2000, and January 30, 2000.

FOR FURTHER INFORMATION CONTACT: Mr. Joseph Schmied, Project Officer, First Coast Guard District, at (212) 668-7195.

SUPPLEMENTARY INFORMATION: The Greenpoint Avenue Bridge, mile 1.3, across the Newtown Creek, has a vertical clearance of 26 feet at mean high water, and 31 feet at mean low water in the closed position. The existing operating regulations in 33 CFR 117.801(a)(4) require the bridge to open on signal at all times.

The bridge owner, the New York City Department of Transportation, notified the Coast Guard on December 10, 1999, that the bridge lift motors may fail to operate if immediate repairs were not implemented. The approval to proceed with the repairs was delayed because of the potential New York City Transit strike which was expected to occur on December 15, 1999. The New York City Transit work stoppage was avoided and as a result, the bridge owner has again requested a two-day closure to repair the bridge lift motors. The repairs are scheduled to be performed on two consecutive Sundays in late January. This decision was made because most of the commercial operators that use this waterway usually do not operate on Sundays resulting in few requests to open the bridge during that time period.

This deviation to the operating regulations allows the bridge owner to keep the Greenpoint Avenue Bridge in the closed position from 6 a.m. to 6:30 p.m., on January 23, 2000, and January 30, 2000.

In accordance with 33 CFR 117.35(c), this work will be performed with all due speed in order to return the bridge to normal operation as soon as possible. This deviation from the operating regulations is authorized under 33 CFR 117.35.

Dated: January 19, 2000.
R.M. Larrabee,
Rear Admiral, U.S. Coast Guard, Commander, First Coast Guard District.

[FR Doc. 00-2023 Filed 1-28-00; 8:45 am]

BILLING CODE 4910-15-P